ENVIRONMENTAL PROTECTION AGENCY

[OAR-2005-0116; FRL-7983-1]

Agency Information Collection Activities; Submission to OMB for Review and Approval; Comment Request; Secondary Non-Ferrous Metals Processing Area Source Standard Development Questionnaire, EPA ICR Number 2200.01

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before November 14, 2005.

ADDRESSES: Submit your comments, referencing docket ID number OAR-2005-0116, to (1) EPA online using EDOCKET (our preferred method), by e-mail to a-and-r-docket@epa.gov, or by mail to: Environmental Protection Agency, EPA Docket Center (EPA/DC), Air and Radiation Docket, Mailcode 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Karen Rackley, Office of Air Quality Planning and Standards, Emission Standards Division, Environmental Protection Agency, Research Triangle Park, North Carolina, 27711, Mail Drop C404-04; Telephone number: (919) 541-0634; fax number: (919) 541-3207; e-mail address: rackley.karen@epa.gov.

SUPPLEMENTARY INFORMATION: EPA has submitted the following ICR to OMB for review and approval according to the procedures prescribed in 5 CFR 1320.12. On July 25, 2005 (70 FR 43407) EPA sought comments on this ICR pursuant to 5 CFR 1320.8(d). EPA received no comments.

EPA has established a public docket for this ICR under Docket ID No. OAR-2005-0116, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Secondary Non-Ferrous Metals Processing Area Source Standard Development Questionnaire.

Abstract: The proposed ICR will collect information and data from 110 existing secondary non-ferrous metal processing plants. Plants will be required to complete a simple paper questionnaire on production processes and equipment, air pollution control systems, pollution prevention management practices, applicable regulatory requirements, and emissions test data. The questionnaire may be completed from existing information; no additional monitoring or testing is required. The EPA will use the collected information and data to develop area source standards for hazardous air pollutants required under section 112(d) of the Clean Air Act.

EPA's authority to collect information is contained in section 114 of the Clean Air Act, (42 U.S.C 7414). All information submitted to EPA pursuant to this ICR for which a claim of confidentiality is made is safeguarded according to Agency policies in 40 CFR part 2, subpart B.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 62 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are secondary non-ferrous metals processing establishments, excluding plants that perform secondary processing of aluminum, copper, or lead. The standard industrial classification (SIC) code for this industry is primarily 3341, Secondary Smelting and Refining of Non-ferrous Metals; the North American Industry Classification System (NAICS) code is 331492, Secondary Smelting, Refining, and Alloying of Non-ferrous Metal (Except Copper and Aluminum).

Estimated Number of Respondents: The estimated number of respondents is 110.

Frequency of Response: This is a new collection requiring a one-time response.

Estimated Total Annual Hour Burden: The estimated total annual hour burden is 2,281 person-hours.

Estimated Total Annual Cost: $179,456, which includes $0 annualized capital/startup costs, $0 annual O&M costs, and $179,456 annual labor costs.

Changes in the Estimates: This section does not apply since this is a new collection.

Dated: September 27, 2005.
Oscar Morales,
Director, Collection Strategies Division.

[FR Doc. 05-20516 Filed 10-12-05; 8:45 am]

BILLING CODE 6560-50-P